FEDERAL COMMUNICATIONS COMMISSION

[CS DOCKET NO. 01-7, FCC 01-15]

Nondiscrimination in the Distribution of Interactive Television Services Over Cable

AGENCY: Federal Communications Commission.

ACTION: Notice of inquiry.

SUMMARY: In this document, the Commission seeks comment on whether rules should be considered to ensure that interactive television (“ITV”) services develop in a competitive fashion. In the Memorandum Opinion and Order in CS Docket 01-30, the Commission found that important questions were raised regarding ITV services that warrant further examination in a proceeding of general applicability. Accordingly, in this document the Commission considers whether industry-wide rules are needed to address any impediments to the development of ITV services and markets.

DATES: Comments are due on or before March 19, 2001; Reply Comments are due on or before April 20, 2001.

ADDRESSES: Parties who choose to file by paper should send comments to the Commission's Secretary, Magalie Roman Salas, Office of the Secretary, Federal Communications Commission, 445 12th Street, SW., Washington, DC 20554. Parties who choose to file by paper should also submit their comments on diskette. Parties should submit diskettes to Royce Dickens, Cable Services Bureau, 445 12th Street SW., Room 3A729, Washington, DC 20554. In addition, commenters must send diskette copies to the Commission's copy contractor, International Transcription Service, 445 12th Street, SW., CY-B400, Washington, DC 20554. Comments filed through the Commission's Electronic Comment Filing System (ECFS) can be sent as an electronic file via the Internet to http://www.fcc.gov/e-file/ecfs.html.

FOR FURTHER INFORMATION CONTACT: Royce Dickens, Cable Services Bureau at (202) 418-7200, TTY (202) 418-7172.

SUPPLEMENTARY INFORMATION: This is a summary of the Notice of Inquiry in CS Docket No. 01-7, FCC 01-15, adopted January 12, 2001, and released January 18, 2001 (“Notice”). The complete text of this document is available for inspection and copying during normal business hours in the FCC Reference Center, 554 12th Street, SW., Washington, DC, and also may be purchased from the Commission's copy contractor, International Transcription Service, 445 12th Street, SW., CY-B400, Washington, DC 20554. In addition, the document is available via the Internet at http://www.fcc.gov/Bureaus/csb.

Synopsis of the Notice of Inquiry

1. In this Notice, the Commission considers whether rules are needed to address any impediments to the development of ITV services and markets.

2. The Notice seeks comment on what services constitute ITV services, what entities constitute ITV providers, how ITV services will be delivered, what business models will govern the delivery of ITV services to consumers, and the general status of an ITV services market. The Notice seeks comment on whether, if it were determined that operators of cable systems (or another delivery platform) had the incentive and ability to behave anti-competitively vis-a-vis ITV service providers, the Commission should consider prohibiting those operators from discriminating between affiliated and unaffiliated ITV service providers.

3. The Notice also seeks comment on the legal classifications of ITV services, what public policy and statutory objectives ITV rules would promote, and the Commission's authority to protect this market. The Notice asks questions about enforcement of any new rules, proposing alternatively a voluntary arbitration, subject to judicial review, or a Commission complaint procedure.

Filing Procedures

4. Pursuant to applicable procedures set forth in §§ 1.415 and 1.419 of the Commission's Rules, 47 CFR 1.415 and 1.419, interested parties may file comments in response to this Notice on or before March 19, 2001 and reply comments on or before April 20, 2001. Comments may be filed using the Commission's Electronic Comment Filing System (“ECFS”) or by filing paper copies. Comments filed through the ECFS can be sent as an electronic file via the Internet to <http://www.fcc/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal service mailing address, and the applicable docket or rulemaking number. Parties may also submit an electronic comment by Internet e-mail. To get filing instructions for e-mail comments, commenters should send an e-mail to ecfs@fcc.gov, and should include the following words in the body of the message, “get form<your e-mail address.” A sample form and directions will be sent in reply.

5. Parties who choose to file by paper must file an original and four copies of each filing. If participants want each Commissioner to receive a personal copy of their comments, an original plus nine copies must be filed. If more than one docket or rulemaking number appears in the caption of this proceeding commenters must submit two additional copies for each additional docket or rulemaking number. All filings must be sent to the Commission's Secretary, Magalie Roman Salas, Office of the Secretary, Federal Communications Commission, 445 12th Street, SW., Washington, DC 20554. The Cable Services Bureau contact for this proceeding is Royce Dickens.

6. Parties who choose to file by paper should also submit their comments on diskette. Parties should submit diskettes to Royce Dickens, Cable Services Bureau, 445 12th Street SW., Room 3A729, Washington, DC 20554. Such a submission should be on a 3.5-inch diskette formatted in an IBM compatible form using MS DOS 5.0 and Microsoft Word, or compatible software. The diskette should be accompanied by a cover letter and should be submitted in “read only” mode. The diskette should be clearly labeled with the party's name, proceeding (including the lead docket number in this case CS Docket No. 01-7), type of pleading (comments or reply comments), date of submission, and the name of the electronic file on the diskette. The label should also include the following phrase “Disk Copy—Not an Original.” Each diskette should contain only one party's pleadings, referable in a single electronic file. In addition, commenters must send diskette copies to the Commission's copy contractor, International Transcription Service, 445 12th Street, SW., CY-B400, Washington, DC, 20554.

Federal Communications Commission.
William F. Caton,
Deputy Secretary, Federal Communications Commission.

[FR Doc. 01-2376 Filed 1-25-01; 8:45 am]

BILLING CODE 6712-01-P